FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/address | Date reissued
16426N | First Express International Corp., 148-36 Guy R. Brewer Blvd., Suite 200, Jamaica, NY 11434 | May 25, 2002.
16171N | Pecton Air Freight (USA) Inc., 175-01 Rockaway Blvd., Rm. 215, Jamaica, NY 11434 | May 25, 2002.
1457F | Schmidt, Pritchard & Co., Inc., 9801 West Lawrence Avenue, Schiller Park, IL 60176 | May 23, 2002.

Sandra L. Kusumoto,
Director, Bureau of Consumer Complaints and Licensing.

[FR Doc. 02-21338 Filed 8-20-02; 8:45 am]

BILLING CODE 6730-01-P